DEPARTMENT OF VETERANS AFFAIRS

Solicitation of Nominations for Appointment to the Advisory Committee on Minority Veterans

ACTION: Notice.

SUMMARY: The Department of Veterans Affairs (VA), Center for Minority Veterans (CMV), is seeking nominations of qualified candidates to be considered for appointment as a member of the Advisory Committee on Minority Veterans (herein-after in this section referred to as “the Committee”). In accordance with Public Law 103-446, the Committee advises the Secretary on the administration of VA benefits and services to minority Veterans; assesses the needs of minority Veterans; and evaluates whether VA compensation, medical and rehabilitation services, outreach, and other programs are meeting those needs. The Committee makes recommendations to the Secretary regarding such activities. Nominations of qualified candidates are being sought to fill upcoming vacancies on the Committee.

DATES: Nominations for membership on the Committee must be received no later than 5:00 p.m. EST on May 30, 2014.

ADDRESSES: All nominations should be mailed to the Center for Minority Veterans, Department of Veterans Affairs, 810 Vermont Ave. NW. (00M), Washington, DC 20420, or faxed to (202) 273-7092.

FOR FURTHER INFORMATION CONTACT: Ms. Juanita J. Mullen, Center for Minority Veterans, Department of Veterans Affairs, 810 Vermont Ave. NW. (00M), Washington, DC 20420, Telephone (202) 461-6191. A copy of the Committee charter and list of the current membership can be obtained by contacting Ms. Mullen or by accessing the Web site managed by CMV at www.va.gov/centerforminorityveterans/Advisory_Committee.asp.

SUPPLEMENTARY INFORMATION: Appointed by the Secretary, The Advisory Committee on Minority Veterans (ACMV) was established under Public Law 103-446 section 510, November 2, 1994. The Committee consists of veterans who represent respective minority groups and are recognized authorities in fields pertinent to the needs of the minority group they embody. Minority group member means an individual who is Asian American, Black, Hispanic, Native American (including American Indian, Alaska Native, and Native Hawaiian); or Pacific Islander American. The Committee responsibilities include:

(1) Advising the Secretary and Congress on VA's administration of benefits and provisions of healthcare, benefits, and services to minority Veterans.

(2) Providing an Annual report to congress outlining recommendations, concerns and observations on VA's delivery of services to minority Veterans.

(3) Meeting with VA officials, Veteran Service Organizations, and other stakeholders to assess the Department's efforts in providing benefits and outreach to minority Veterans.

(4) Making periodic site visits and holding town hall meetings with Veterans to address their concerns.

Management and support services for the Committee are provided by CMV.

Nominations: CMV is requesting nominations for upcoming vacancies on the Committee. The Committee is currently composed of 12 members, in addition to ex-officio members. This announcement is seeking nominations for Committee members. The members of the Committee are appointed by the Secretary of Veterans Affairs from the general public, including:

(1) Representatives of Veterans who are minority group members;

(2) Individuals who are recognized authorities in fields pertinent to the needs of Veterans who are minority group members;

(3) Veterans who are minority group members and who have experience in a military theater of operations;

(4) Veterans who are minority group members and who do not have such experience and;

(5) Recently separated Veterans who are minority group members.

The Secretary shall determine the number, terms of service, and pay and allowances of members of the Committee appointed by the Secretary, except that a term of service of any such member may not exceed three years. The Secretary may reappoint any such member for additional terms of service.

Required Professional Qualifications: Nominees should meet all of the following criteria to be eligible for consideration.

(1) Must be diverse in your professional and personal qualifications;

(2) Must have experience in military service and military deployments;

(3) Is currently working with Veterans;

(4) Committee subject matter expertise;

(5) Have experience working in large and complex organizations;

(6) Must identify your Branch of Service and Rank;

(7) Must identify your Race and Ethnicity to ensure balance of membership.

Desirable Qualifications

Requirements for Nomination Submission: Nominations should be type written (one nomination per nominator). Nomination package should include: (1) A letter of nomination that clearly states the name and affiliation of the nominee, the basis for the nomination (i.e. specific attributes which qualify the nominee for service in this capacity), and a statement from the nominee indicating a willingness to serve as a member of the Committee; (2) the nominee's contact information, including name, mailing address, telephone numbers, and email address; (3) the nominee's curriculum vitae, and (4) a summary of the nominee's experience and qualification relative to the required professional qualifications criteria listed above.

Individuals selected for appointment to the Committee shall be invited to serve a two year term. Committee members will receive a stipend for attending Committee meetings, including per diem and reimbursement for travel expenses incurred.

The Department makes every effort to ensure that the membership of VA federal advisory committees is fairly balanced in terms of points of view represented and the committee's function. Every effort is made to ensure that a broad representation of geographic areas, males and females, racial and ethnic minority groups, and the disabled are given consideration for membership on VA federal advisory committees. Appointment to this Committee shall be made without discrimination because of a person's race, color, religion, sex, national origin, age, disability, or genetic information. Nominations must state that the nominee is willing to serve as a member of the Committee and appears to have no conflict of interest that would preclude membership. An ethics review is conducted for each selected nominee.

Dated: March 26, 2014.
Jelessa Burney,
Federal Advisory Committee Management Officer.

[FR Doc. 2014-07169 Filed 3-31-14; 8:45 am]

BILLING CODE P